DEPARTMENT OF THE TREASURY

Correction to Submission for OMB Review

December 1, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Bureau of Public Debt (BPD)

OMB Number: 1535-0089.

Type of Review: Revision.

Title: Implementing Regulations: Government Securities Act of 1986, as amended.

Correction: In the Federal Register Notice published November 30, 2006, page 69221, make the following correction: Change bureau name from “Internal Revenue Service”, should read “Bureau of Public Debt.”

Michael A. Robinson,
Treasury PRA Clearance Officer.

[FR Doc. E6-20675 Filed 12-5-06; 8:45 am]

BILLING CODE 4810-02-P